DEPARTMENT OF ENERGY

Federal Energy Regulatory Commission

Combined Notice of Filings #1

Take notice that the Commission received the following exempt wholesale generator filings:

Docket Numbers: EG26-103-000.

Applicants: Pelicans Jaw Solar, LLC.

Description: Pelicans Jaw Solar, LLC submits Notice of Self-Certification of Exempt Wholesale Generator Status.

Filed Date: 12/15/25.

Accession Number: 20251215-5316.

Comment Date: 5 p.m. ET 1/5/26.

Take notice that the Commission received the following Complaints and Compliance filings in EL Dockets:

Docket Numbers: EL26-35-000.

Applicants: Coalition of Midwest Power Producers, Inc. JERA Nex Americas LLC Rainbow Energy Center, LLC v. Midcontinent Independent System Operator, Inc.

Description: Complaint of Coalition of Midwest Power Producers, Inc. et al. v. Midcontinent Independent System Operator, Inc.

Filed Date: 12/15/25.

Accession Number: 20251215-5194.

Comment Date: 5 p.m. ET 1/5/26.

Take notice that the Commission received the following electric rate filings:

Docket Numbers: ER24-1915-004.

Applicants: New York Independent System Operator, Inc.

Description: Compliance filing: NYISO Compliance Filing re: Oct 2025 Order on NYISO Order No. 2023 Compliance to be effective 5/2/2024.

Filed Date: 12/15/25.

Accession Number: 20251215-5274.

Comment Date: 5 p.m. ET 1/5/26.

Docket Numbers: ER25-3473-001.

Applicants: City of Pasadena, California.

Description: Tariff Amendment: City of Pasadena, Cal. Response to Deficiency Letter to be effective 10/1/2025.

Filed Date: 12/15/25.

Accession Number: 20251215-5280.

Comment Date: 5 p.m. ET 1/5/26.

Docket Numbers: ER26-749-000.

Applicants: Lock Energy Center, LLC.

Description: § 205(d) Rate Filing: Lock Energy Center, LLC.—Application for Market-Based Rate Authorization to be effective 2/11/2026.

Filed Date: 12/12/25.

Accession Number: 20251212-5273.

Comment Date: 5 p.m. ET 1/2/26.

Docket Numbers: ER26-750-000.

Applicants: Black Hills Power, Inc.

Description: § 205(d) Rate Filing: OATT Revisions to Implement Black Hills Power Balancing Authority Area to be effective 4/1/2026.

Filed Date: 12/12/25.

Accession Number: 20251212-5280.

Comment Date: 5 p.m. ET 1/2/26.

Docket Numbers: ER26-751-000.

Applicants: PJM Interconnection, L.L.C.

Description: § 205(d) Rate Filing: Order Nos. 1920, 1920-A, 1920-B Compliance Filing to be effective 12/31/9998.

Filed Date: 12/12/25.

Accession Number: 20251212-5294.

Comment Date: 5 p.m. ET 1/2/26.

Docket Numbers: ER26-752-000.

Applicants: Black Hills Power, Inc.

Description: Initial rate filing: Power Balancing Authority-Sub-Entity Reserve Sharing Agreements RS26 to be effective 4/1/2026.

Filed Date: 12/15/25.

Accession Number: 20251215-5004.

Comment Date: 5 p.m. ET 1/5/26.

Docket Numbers: ER26-753-000.

Applicants: Black Hills Power, Inc.

Description: Initial rate filing: Power Balancing Authority and Sub-Entity Reserve Sharing Agreements to be effective 4/1/2026.

Filed Date: 12/15/25.

Accession Number: 20251215-5006.

Comment Date: 5 p.m. ET 1/5/26.

Docket Numbers: ER26-754-000.

Applicants: Black Hills Power, Inc.

Description: Initial rate filing: Power Balancing Authority-Sub-Entity Reserve Sharing Agreements RS28 to be effective 4/1/2026.

Filed Date: 12/15/25.

Accession Number: 20251215-5008.

Comment Date: 5 p.m. ET 1/5/26.

Docket Numbers: ER26-755-000.

Applicants: Black Hills Power, Inc.

Description: Initial rate filing: Power Balancing Authority-Sub-Entity Reserve Sharing Agreements RS29 to be effective 4/1/2026.

Filed Date: 12/15/25.

Accession Number: 20251215-5010.

Comment Date: 5 p.m. ET 1/5/26.

Docket Numbers: ER26-756-000.

Applicants: Black Hills Power, Inc.

Description: Initial rate filing: Power Balancing Authority-Sub-Entity Reserve Sharing Agreements RS30 to be effective 4/1/2026.

Filed Date: 12/15/25.

Accession Number: 20251215-5013.

Comment Date: 5 p.m. ET 1/5/26.

Docket Numbers: ER26-757-000.

Applicants: Black Hills Power, Inc.

Description: Initial rate filing: Power Balancing Authority-Sub-Entity Reserve Sharing Agreements RS31 to be effective 4/1/2026.

Filed Date: 12/15/25.

Accession Number: 20251215-5016.

Comment Date: 5 p.m. ET 1/5/26.

Docket Numbers: ER26-758-000.

Applicants: Black Hills Power, Inc.

Description: Initial rate filing: Power Balancing Authority-Sub-Entity Reserve Sharing Agreements RS32 to be effective 4/1/2026.

Filed Date: 12/15/25.

Accession Number: 20251215-5017.

Comment Date: 5 p.m. ET 1/5/26.

Docket Numbers: ER26-759-000.

Applicants: Black Hills Power, Inc.

Description: Initial rate filing: Power Balancing Authority-Sub-Entity Reserve Sharing Agreements RS33 to be effective 4/1/2026.

Filed Date: 12/15/25.

Accession Number: 20251215-5018.

Comment Date: 5 p.m. ET 1/5/26.

Docket Numbers: ER26-760-000.

Applicants: Black Hills Power, Inc.

Description: Initial rate filing: Power Balancing Authority-Sub-Entity Reserve Sharing Agreements RS34 to be effective 4/1/2026.

Filed Date: 12/15/25.

Accession Number: 20251215-5020.

Comment Date: 5 p.m. ET 1/5/26.

Docket Numbers: ER26-761-000.

Applicants: PacifiCorp.

Description: § 205(d) Rate Filing: BPA Construction Agreement—TPUD Swap (RS No. 803) to be effective 2/14/2026.

Filed Date: 12/15/25.

Accession Number: 20251215-5135.

Comment Date: 5 p.m. ET 1/5/26.

Docket Numbers: ER26-762-000.

Applicants: American Transmission Systems, Incorporated.

Description: Tariff Amendment: Notice of Cancellation of Service Agreement No. 7225 to be effective 2/16/2026.

Filed Date: 12/15/25.

Accession Number: 20251215-5158.

Comment Date: 5 p.m. ET 1/5/26.

Docket Numbers: ER26-763-000.

Applicants: Southwest Power Pool, Inc.

Description: § 205(d) Rate Filing: Revisions Related to Cost Allocation of Qualifying NRIS Upgrades to be effective 2/15/2026.

Filed Date: 12/15/25.

Accession Number: 20251215-5165.

Comment Date: 5 p.m. ET 1/5/26.

Docket Numbers: ER26-764-000.

Applicants: PJM Interconnection, L.L.C.

Description: § 205(d) Rate Filing: Amendment to GIA, Service Agreement No. 7374; Project Identifier No. AG1-040 to be effective 2/14/2026.

Filed Date: 12/15/25.

Accession Number: 20251215-5190.

Comment Date: 5 p.m. ET 1/5/26.

Docket Numbers: ER26-765-000.

Applicants: PJM Interconnection, L.L.C.

Description: § 205(d) Rate Filing: Amendment to ISA, SA No. 6816; Queue No. AF1-271A to be effective 2/14/2026.

Filed Date: 12/15/25.

Accession Number: 20251215-5201.

Comment Date: 5 p.m. ET 1/5/26.

Docket Numbers: ER26-766-000.

Applicants: Pelicans Jaw Solar, LLC.

Description: Initial Rate Filing: Market-Based Rate Application and Request for Waivers and Blanket Approvals to be effective 2/14/2026.

Filed Date: 12/15/25.

Accession Number: 20251215-5248.

Comment Date: 5 p.m. ET 1/5/26.

Docket Numbers: ER26-767-000.

Applicants: ISO New England Inc., NSTAR Electric Company.

Description: Tariff Amendment: ISO New England Inc. submits tariff filing per 35.15: Notice of Termination of First Revised LGIA-ISONE/NSTAR-20-01 to be effective 12/5/2025.

Filed Date: 12/15/25.

Accession Number: 20251215-5269.

Comment Date: 5 p.m. ET 1/5/26.

Docket Numbers: ER26-768-000.

Applicants: Public Service Company of Colorado.

Description: Tariff Amendment: 2025-12-15—PSC-PI-2024-17-TW2-T.

Filed Date: 12/15/25.

Accession Number: 20251215-5311.

Comment Date: 5 p.m. ET 1/5/26.

Docket Numbers: ER26-769-000.

Applicants: Duke Energy Florida, LLC.

Description: Tariff Amendment: DEF-Orange CoGen Notice of Termination of SA No. 159 to be effective 12/31/2025.

Filed Date: 12/15/25.

Accession Number: 20251215-5326.

Comment Date: 5 p.m. ET 1/5/26.

Docket Numbers: ER26-770-000.

Applicants: Ameren Illinois Company.

Description: § 205(d) Rate Filing: Filing of an O&M Agreement (RS No. 168) to be effective 1/1/2026.

Filed Date: 12/15/25.

Accession Number: 20251215-5333.

Comment Date: 5 p.m. ET 1/5/26.

Take notice that the Commission received the following electric securities filings:

Docket Numbers: ES26-24-000.

Applicants: Michigan Electric Transmission Company, LLC.

Description: Application Under Section 204 of the Federal Power Act for Authorization to Issue Securities of Michigan Electric Transmission Company, LLC.

Filed Date: 12/12/25.

Accession Number: 20251212-5315.

Comment Date: 5 p.m. ET 1/2/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 15, 2025.
Carlos D. Clay,
Deputy Secretary.

[FR Doc. 2025-23272 Filed 12-17-25; 8:45 am]

BILLING CODE 6717-01-P